DEPARTMENT OF THE INTERIOR

National Park Service

[NPS-WASO-NAGPRA-NPS0030074; PPWOCRADN0-PCU00RP14.R50000]

Notice of Inventory Completion: Pueblo Grande Museum, City of Phoenix, AZ

AGENCY: National Park Service, Interior.

ACTION: Notice.

SUMMARY: The Pueblo Grande Museum (PGM) has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Pueblo Grande Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Pueblo Grande Museum at the address in this notice by June 8, 2020.

ADDRESSES: Lindsey Vogel-Teeter, Pueblo Grande Museum, 4619 E Washington Street, Phoenix, AZ 85034, telephone (602) 534-1572, email lindsey.vogel-teeter@phoenix.gov.

SUPPLEMENTARY INFORMATION: Notice is here given in accordance with the Native American Graves Protection and Repatriation Act (NAGPRA), 25 U.S.C. 3003, of the completion of an inventory of human remains and associated funerary objects under the control of the Pueblo Grande Museum, Phoenix, AZ. The human remains and associated funerary objects were removed from Maricopa and Pinal counties, AZ, as well as unspecified locations within central or southern AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Pueblo Grande Museum professional staff in consultation with representatives of the Gila River Indian Community of the Gila River Indian Reservation, Arizona; Hopi Tribe of Arizona; Salt River Pima-Maricopa Indian Community of the Salt River Reservation, Arizona; and the Zuni Tribe of the Zuni Reservation, New Mexico.

History and Description of the Remains

The following human remains and associated funerary objects are associated with the Hohokam archeological culture (A.D. 1-1450).

Between 1938 and 1939, human remains representing, at minimum, two individuals were removed from site AZ U:9:1(ASM)/Pueblo Grande in Maricopa County, AZ, by personnel from the Salt River Valley Stratigraphic Survey (SRVSS) working out of PGM. These excavations occurred in trash mound 1 of the site. The human remains have been kept in the collections of PGM since they were excavated, and some were originally identified as faunal remains. The human remains are cremated. No known individuals were identified. The 29 associated funerary objects are 10 Sacaton red-on-buff partial and whole vessels; three Wingfield plain ware bowls, jar, and sherds; three awl fragments; one red-on-buff censer; one heavy-walled buff ware vessel; one lot faunal bone fragments; three projectile points; four shell ornaments; one lot pigment; one lithic; and one daub.

AZ U:9:1(ASM)/Pueblo Grande was a large village located on the north side of the Salt River, along Canal System Two, and was occupied throughout the Hohokam cultural sequence, reaching its greatest extent during the Classic period (A.D. 1150-1450).

In 1937 or 1938, human remains representing, at minimum, one individual were removed from site AZ T:12:2(PGM)/AZ T:12:1(ASM)/SRVSS Site 5/La Ciudad in Maricopa County, AZ, by personnel from the SRVSS working out of PGM. The individual was exposed in a sewer line trench or a well. The human remains have been in the collections of PGM since they were excavated, but were not identified until 2018, during a review of the faunal collection. No known individual was identified. No associated funerary objects are present.

AZ T:12:1(ASM)/La Ciudad was a large village located on the north side of the Salt River, along Canal System Two, and was occupied throughout the Hohokam cultural sequence (A.D. 1-1450).

In 1940, human remains and associated funerary objects representing, at minimum, 10 individuals were removed from site AZ T:12:4(PGM)/AZ T:12:220(ASM)/SRVSS Site 7/Las Cremaciones in Maricopa County, AZ, during excavations by personnel from the SRVSS working out of PGM. The human remains have been kept in the collections of PGM since they were excavated. Some of them were not identified until 2018, during a review of the faunal collection. The human remains represent four cremations and six inhumations. The individuals range in age from infant to adult. No known individuals were identified. The 25 associated funerary objects are one bowl; one lot Santa Cruz red-on-buff jar sherds; four lots plain ware or red-on-buff sherds; three worked sherds; one lot faunal bone; two palettes; two projectile points; one faunal bone; one ceramic material; one Deadman's black-on-red sherd; one lot shell bracelet fragments; three worked shell; two lots lithics; one animal claw; and one awl fragment. The human remains likely date to the Pre-Classic period (A.D. 1-1150).

In 1939, human remains representing, at minimum, six individuals were removed from site AZ U:9:6(PGM)/SRVSS Site 12 in Maricopa County, AZ, by personnel from the SRVSS working out of PGM. These excavations occurred in a trash mound located in AZ U:9:6(PGM)/SRVSS Site 12, which is in the vicinity of AZ U:9:25(ASM)/Mesa Grande. The human remains have been kept in the collections of PGM since they were excavated. Some of them were originally identified as faunal remains. The human remains represent five inhumations and one cremation. All six individuals are believed to be adults; one is male, and the rest are of indeterminate sex. No known individuals were identified. The seven associated funerary objects are one Los Muertos polychrome bowl; two lots Wingfield red and plain ware sherds; one lot Salt Plain sherds; two faunal bone; and one mano.

AZ U:9:25(ASM)/Mesa Grande was a large village located on the south side of the Salt River, along Canal System Two, and reached its greatest extent during the Classic period (A.D. 1150-1450).

In March 1939, human remains representing, at minimum, two individuals were removed from site AZ T:12:6(PGM)/AZ T:12:73(ASM)/Pueblo Viejo/SRVSS Site 32 in Maricopa County, AZ, by personnel from the SRVSS working out of PGM. The human remains have been in the collections of PGM since they were excavated. The human remains are from inhumations, and belong to two young adult males. No known individuals were identified. No associated funerary objects are present. The human remains date to sometime during the Hohokam cultural sequence (A.D. 1-1450).

In April 1939, human remains representing, at minimum, two individuals were removed from a site in Maricopa County, AZ, by personnel from the SRVSS working out of PGM. These excavations are believed to have occurred in AZ T:11:1(PGM)/AZ T:11:39(ASM)/Cashion Site/SRVSS Site 41, but might have occurred in AZ U:9:15(PGM)/AZ U:9:13(ASM)/SRVSS Site 23. The human remains have been in the collections of PGM since they were excavated. The human remains are from inhumations, and belong to two adults, one male and one of indeterminate sex. No known individuals were identified. The one associated funerary object is a Gila plain ware ceramic sherd. The human remains likely date to the Pre-Classic period (A.D. 1-1150).

In 1939, human remains representing, at minimum, one individual were removed from site AZ U:10:9(PGM)/SRVSS Site 61 in Maricopa County, AZ, by personnel from the SRVSS working out of PGM. This site is in the vicinity of AZ U:10:2(ASM)/Germann Site. The human remains have been in the collections of PGM since they were excavated, and were originally identified as faunal remains. The human remains are from a cremation, and belong to an individual of indeterminate sex between juvenile to middle-aged adult. No known individual was identified. No associated funerary objects are present. The human remains date to sometime during the Hohokam cultural sequence (A.D. 1-1450).

In 1939, human remains representing, at minimum, one individual were removed from a site in Maricopa County, AZ, by personnel from the SRVSS working out of PGM. The individual was collected from the boundaries of AZ T:14:4(PGM)/SRVSS Site 77. The human remains have been in the collections of PGM since they were excavated, but they were not identified until 2018, during a review of the faunal collection. The human remains belong to a subadult or adult of indeterminate sex. No known individual was identified. No associated funerary objects are present. The human remains date to sometime during the Hohokam cultural sequence (A.D. 1-1450).

At an unknown date, likely between 1960 and 1990, human remains representing, at minimum, one individual were removed from Maricopa County, AZ, by a construction worker during the construction of the Cross-Cut canal. This discovery occurred in site AZ U:9:1(ASM)/Pueblo Grande. The human remains and associated funerary objects were brought to PGM on December 7, 1990. The human remains are cremated, and belong to an individual of indeterminate sex and age. No known individual was identified. The two associated funerary objects are two lithics, or worked flakes.

Between 1980 and 1981, human remains representing, at minimum, five individuals were removed from site AZ U:9:1(ASM)/Pueblo Grande in Maricopa County, AZ, during excavations by members of the Arizona Archaeological Society and PGM personnel. The human remains have been in the collections of PGM since they were excavated, but some of them were not identified until 2018, during a review of the faunal collection. The human remains include isolates and cremated remains. One of the individuals is a middle-aged adult, possibly female. The other four individuals are of indeterminate age and sex. No known individuals were identified. The 32 associated funerary objects are 14 pollen and flotation samples; two lots faunal bone; one lot unworked shell; three lots stone; 10 lots plain ware, red ware, buff ware, and intrusive sherds; one shell bracelet fragment; and one red-on-buff jar.

In 1967, human remains representing, at minimum, seven individuals were removed from site AZ T:12:1(ASM)/AZ:T:12:2(PGM)/La Ciudad in Maricopa County, AZ, by PGM personnel during a salvage project conducted prior to the construction of St. Luke's Hospital. The human remains have been in the collections of PGM since they were excavated. The human remains are from inhumations, and belong to two infants, three children, and two adults. All the individuals are of indeterminate sex. No known individuals were identified. The 25 associated funerary objects are 21 lots plain ware, red ware, red-on-buff sherds; two shell bracelet fragments; one reed impression; and one Salt Red bowl.

Between 1936 and 1939, human remains representing, at minimum, 53 individuals were removed from site AZ U:9:1(ASM)/Pueblo Grande in Maricopa County, AZ, by PGM personnel. These excavations occurred in multiple areas of the site, and the majority of this work was conducted under the supervision of Julian Hayden. The human remains have been in the collections of PGM since they were excavated, but some individuals were not identified until 2018, during a review of the faunal and unprovenanced collections. The human remains belong to 37 cremated individuals and 16 individuals from inhumations. The individuals range in age from fetal to old adult, and include both males and females. No known individuals were identified. The 115 associated funerary objects include 18 ceramic bowls including plain ware, red ware, red-on-buff; eight ceramic jars including plain ware, Black Mesa black-on-white; one ceramic pitcher; one seed jar; three scoops including red ware and red-on-buff; four environmental samples; two lots textile fragments; one spindle whorl; 12 lots worked faunal bones including awls; eight lots shells; six lots shell jewelry including bracelets, pendants, beads; 24 lots ceramic sherds including plain ware, red ware, red-on-buff and polychrome; four lots faunal bones including red-tailed hawk burial; six vessel fragments/partial vessels; one piece stone jewelry; one worked sherd; one polishing stone; one lot charcoal; three lots white chalky substance (possibly burned caliche or shell); two axes; one hammerstone; one red-on-buff censer; three palettes; two lithics; and one figurine.

Between October and November 1939, human remains representing, at minimum, two individuals were removed from site AZ U:9:1(ASM)/Pueblo Grande in Maricopa County, AZ, by PGM personnel. These excavations occurred in a stratigraphic test pit within the platform mound. The human remains have been in the collections of PGM since they were excavated, but were not identified until 2018, during a review of the faunal and unprovenanced human remains collections. The human remains belong to an isolated adult of indeterminate sex and age, and the inhumation of a child who is approximately 18 months old and of indeterminate sex. No known individuals were identified. The 10 associated funerary objects include one red ware scoop; two shell jewelry; three shell beads; one lithic; one lot charcoal; and two faunal bones.

In the summer of 1966, human remains representing, at minimum, four individuals were removed from site AZ U:9:1(ASM)/Pueblo Grande in Maricopa County, AZ. The human remains have been in the collections of PGM since they were excavated. During a review of the faunal collection in 2018, one of the individuals was identified. The human remains are from three inhumations and one cremation, and the individuals' ages range from fetal to adult. One of the individuals is possibly a male, while the other individuals are of indeterminate sex. No known individuals were identified. The 10 associated funerary objects include one Jeddito sherd; one spindle whorl; one point; one diorite ball; three bowls; two scoops; and one charred twig.

Between 1967 and 1968, human remains representing, at minimum, one individual were removed from site AZ U:9:1(ASM)/Pueblo Grande in Maricopa County, AZ. These excavations occurred south of the Grand Canal. The human remains have been in the collections of PGM since they were excavated, but were not identified until 2018, during a review of the faunal collection. The human remains belong to an isolated individual of indeterminate sex who is probably adult. No known individual was identified. The one associated funerary object is a soil sample.

In the summer of 1970, human remains representing, at minimum, seven individuals were removed from site AZ U:9:1(ASM)/Pueblo Grande in Maricopa County, AZ. The human remains have been in the collections of PGM since they were excavated, but some were not identified until 2018, during a review of the faunal collection. The human remains are from four inhumations and three cremations. The individuals range in age from perinatal infant to adult. One individual is male, another is possibly female, the other five are of indeterminate sex. No known individuals were identified. The 35 associated funerary objects are one partial plain ware bowl; six lots buff ware, Wingfield, and plain ware sherds; one bowl; one faunal bone; one shell fragment; four samples; 16 lots red-on-buff, plain, and red ware sherds; one Wingfield plain ware seed jar; one plain ware bowl; one shell; one lot lithics; and one lot soils.

In the summer of 1971, human remains representing, at minimum, five individuals were removed from site AZ U:9:1(ASM)/Pueblo Grande in Maricopa County, AZ. The human remains have been in the collections of PGM since they were excavated, but some were not identified until 2018, during a review of the faunal collection. The individuals are from three cremations, one inhumation, and some are isolated human remains. The individuals range in age from child to old adult. One individual is possibly male, and the other individuals are of indeterminate sex. No known individuals were identified. The eight associated funerary objects include one lot shell; one faunal bone; two samples; one bead; one plain ware bowl; one bowl fragment; and one decorated sherd.

In the summer of 1972, human remains representing, at minimum, three individuals were removed from site AZ U:9:1(ASM)/Pueblo Grande in Maricopa County, AZ. These excavations occurred in the area to the northeast of the platform mound. The human remains have been in the collections of PGM since they were excavated, but were not identified until 2018, during a review of the faunal collection. The individuals are represented by isolated human remains belonging to individuals ranging in age from adolescent to adult. All of them are of indeterminate sex. No known individuals were identified. No associated funerary objects are present.

In the summer of 1973, human remains representing, at minimum, four individuals, were removed from site AZ U:9:1(ASM)/Pueblo Grande in Maricopa County, AZ. The human remains have been in the collections of PGM since they were excavated, but some were not identified until 2018, during a review of the faunal collection. The human remains represent three cremations and one inhumation. The age of individuals ranges from young child to adult, and all are of indeterminate sex. No known individuals were identified. The 17 associated funerary objects include one lot charcoal; one lot basalt flakes; eight lots sherds, Salt Red, Gila plain, Wingfield plain ware; two plain ware sherds; two Gila plain vessels; one red ware bowl; and two samples.

In the summer of 1977, human remains representing, at minimum, two individuals were removed from site AZ U:9:1(ASM)/Pueblo Grande in Maricopa County, AZ. The human remains have been in the collections of PGM since they were excavated, but some were not identified until 2018, during a review of the faunal collection. The human remains are isolated and belong to individuals ranging in age between child and adult, and all are of indeterminate sex. No known individuals were identified. No associated funerary objects are present.

Between 1990 and 1992, human remains and associated funerary objects representing, at minimum, two individuals were removed from site AZ T:12:148(ASM)/La Villa in Maricopa County, AZ. The human remains have been in the collections of PGM since they were excavated. The individuals are from two inhumations. One individual is a perinatal infant/fetus of indeterminate sex, and the other is possibly a female sub-adult or adult. No known individuals were identified. The 31 associated funerary objects are two faunal bones; two pollen samples; three soil samples; one flotation sample; five lots lithics; one metate fragment; one daub; 14 lots sherds; one fragmented Gila Butte bowl; and one fragmented Salt plain bowl.

AZ T:12:148(ASM)/La Villa was a large village located on the north side of the Salt River, and was occupied during the Pre-Classic period (A.D. 1-1150).

In January 1968, human remains representing, at minimum, one individual were removed from site AZ U:9:1(ASM)/Pueblo Grande in Maricopa County, AZ. The individual was discovered by an employee of the Arizona State Highway Department. PGM personnel excavated the human remains and brought them to the Museum, where they entered the collections of PGM. The human remains represent an inhumation, and belong to an older adult of indeterminate sex. No known individual was identified. No associated funerary objects are present.

In 1977, human remains representing, at minimum, one individual were removed from AZ T:12:70(ASM)/Pueblo Patricio in Maricopa County, AZ, by PGM personnel. These excavations occurred prior to the development of a City of Phoenix park at Heritage Square. This feature was not recorded in the project documentation. The human remains have been in the collections of PGM since they were excavated. The human remains represent a cremation, and belong to an adult who is possibly female. No known individual was identified. The five associated funerary objects include one Salt red bowl; three lots plain ware sherds; and one lot red ware sherds.

AZ T:12:70(ASM)/Pueblo Patricio was a large village located on the north side of the Salt River, and was occupied throughout most of the Hohokam cultural sequence (A.D. 1-1450).

In October 1936, human remains representing, at minimum, one individual were removed from site AZ T:12:148(ASM)/AZ T:12:5(PGM)/SRVSS Site 29/La Villa in Maricopa County, AZ. These excavations occurred on privately owned land. The human remains have been in the collections of PGM since they were excavated. The human remains represent an inhumation, and belong to a sub-adult or adult who is possibly female. No known individual was identified. The two associated funerary objects include one perforated faunal bone and one environmental sample.

In 1970, human remains representing, at minimum, two individuals were removed from site AZ U:9:67(ASM)/La Lomita in Maricopa County, AZ. The individuals were found eroding out of the Grand Canal. The human remains were identified in the collections of PGM in 1995. The human remains represent inhumations, and belong to two adults who are possibly male. No known individuals were identified. The five associated funerary objects include one ground stone and four lots red-on-buff and plain ware sherds.

AZ U:9:67(ASM)/La Lomita was a large village located on the north side of the Salt River, along Canal System Two, and was occupied during the Pre-Classic period (A.D. 1-1150).

In November 1939, human remains representing, at minimum, one individual were removed from a site in Maricopa County, AZ. The documentation is unclear regarding the excavator. The human remains were brought to PGM in 1939, where they have remained in the Museum's collections. The human remains represent an inhumation of an adult who is possibly female. No known individual was identified. No associated funerary objects are present. The human remains date to sometime during the Hohokam cultural sequence (A.D. 1-1450).

In or around 1942, human remains representing, at minimum, one individual were removed from the vicinity of AZ U:9:46(ASM) in Maricopa County, AZ, on property belonging to the privately-owned Hudson Ranch. The human remains have been at PGM since 1942. The human remains represent the partial inhumation of a male adult 25-30 years old. No known individual was identified. The six associated funerary objects include one Gila polychrome bowl; three lots of sherds including plain ware, red ware, and polychrome; one lot lithics; and one lot faunal bone. The human remains likely date to sometime during the Hohokam cultural sequence (A.D. 1-1450).

In 1962, human remains representing, at minimum, two individuals were found in the collections of PGM. Staff believed these human remains belonged to a cremation excavated from AZ U:9:1(ASM)/Pueblo Grande in Maricopa County, AZ, by Julian Hayden, but were unable to identify a known feature. The human remains represent a cremation of two individuals, and belong to a child of indeterminate sex and an adult male. No known individuals were identified. The one associated funerary object is a Gila plain ware jar.

In 1962, human remains representing, at minimum, one individual were likely removed from AZ were found in the collections of PGM. Staff believed these remains belonged to cremation excavated from AZ U:9:1(ASM)/Pueblo Grande in Maricopa County, AZ, by Julian Hayden, but were unable to identify a known feature. The human remains are cremated, and belong to a late adolescent or adult who is possibly female. No known individual was identified. The one associated funerary object is a Gila plain ware jar.

At an unknown time, human remains representing, at minimum, one individual were likely removed from AZ. In 1962, they were found in the collections of PGM. The human remains are cremated, and belong to a late adolescent or adult of indeterminate sex. No known individual was identified. The one associated funerary object is a Salt plain ware jar. The human remains date to sometime during the Hohokam cultural sequence (A.D. 1-1450).

At an unknown time, human remains representing, at minimum, two individuals were likely removed from AZ. In 1962, they were found in the collections of PGM. The human remains include a cremation and an inhumation of individuals of indeterminate sex between the ages of late adolescence and adulthood. No known individuals were identified. The three associated funerary objects are two plain ware sherds and one Glycymeris shell bracelet. The human remains date to sometime during the Hohokam cultural sequence (A.D. 1-1450).

At an unknown time, human remains representing, at minimum, two individuals were likely removed from AZ. In 1962, they were found in the collections of PGM. The human remains are cremated, and belong to a young adult who is possibly female and an adult of indeterminate sex. No known individuals were identified. The three associated funerary objects are one lot plain ware sherds; one stone; and one-piece Glycymeris shell (possibly a bracelet). The human remains date to sometime during the Hohokam cultural sequence (A.D. 1-1450).

At an unknown time, human remains representing, at minimum, one individual were likely removed from AZ. In 1967, they were found in the collections of PGM. The human remains are cremated, and belong to an individual of indeterminate sex between the ages of older juvenile and adult. No known individual was identified. The two associated funerary objects include one Salt plain ware jar and one partial bone awl/hairpin. The human remains date to sometime during the Hohokam cultural sequence (A.D. 1-1450).

At an unknown time, human remains representing, at minimum, one individual were likely removed from AZ. In 1995, they were found in the collections of PGM. The human remains are cremated, and belong to an individual of indeterminate sex between the ages of child and adult. No known individual was identified. The four associated funerary objects include three lots plain ware/red-on-buff ceramic sherds and one seed. The human remains date to sometime during the Hohokam cultural sequence (A.D. 1-1450).

At an unknown time, human remains representing, at minimum, nine individuals were likely removed from AZ. In 1995, they were found in the collections of PGM. Some of the human remains are labeled with a catalog numbering system that suggests they may have been collected during the 1935 Public Works Administration excavations in the platform mound at AZ U:9:1(ASM)/Pueblo Grande in Maricopa County, AZ. The human remains are fragmentary, and come from inhumations and a cremation. The individuals range in age from fetal to adult, and all are of indeterminate sex. No known individuals were identified. The 13 associated funerary objects include six lots faunal bone; two lots plain ware ceramic sherds; one lot nacreous shell; two lot lithics ceramic sherds; and two lots pumpkin/squash seeds. The human remains date to sometime during the Hohokam cultural sequence (A.D. 1-1450).

At an unknown time, human remains representing, at minimum, one individual were removed from an unknown location, likely in AZ. In 1995, they were found in the collections of PGM. A note with the human remains stated that these human remains were on display in an exhibit case at PGM between 1974 and 1982. It appears that these human remains were part of a display of “Hohokam-style” inhumation created by the Museum. The other partial individuals used in the display were identified and reunited, however, the human remains represented by this particular individual were not located. The human remains are from an inhumation of an adult who is possibly male. No known individual was identified. No associated funerary objects are present. The human remains date to sometime during the Hohokam cultural sequence (A.D. 1-1450).

At an unknown time, human remains representing, at minimum, two individuals were removed from an unknown location, likely in AZ. In 1995, they were found in the collections of PGM. The human remains are from an inhumation and cremation, and belong to adults of indeterminate sex. No known individuals were identified. The five associated funerary objects include three lots faunal bone; one lot burned Laevicardium and Glycymeris shell (possibly including a bracelet); and one lot Wingfield and Gila plain ceramic sherds. The human remains date to sometime during the Hohokam cultural sequence (A.D. 1-1450).

At an unknown time, human remains representing, at minimum, two individuals were removed from an unknown location, likely in AZ. In 1995, they were found in the collections of PGM. The human remains are from the cremation of two individuals, an infant or child and an adult. Both individuals are of indeterminate sex. No known individuals were identified. The three associated funerary objects include one lot faunal bone; one lot burned shell; and one lot ceramic sherds. The human remains date to sometime during the Hohokam cultural sequence (A.D. 1-1450).

At an unknown date, human remains representing, at minimum, 58 individuals were likely removed from AZ. On multiple dates between 1962 and 1995, they were found in the collections of PGM. While there is no collecting information for these remains, their preservation is consistent with prehistoric Native American human remains. Moreover, 93% of the individuals in the collection of PGM are from the Hohokam archeological culture. Consequently, PGM has determined that, more likely than not, these individuals are from the Hohokam archeological cultural region. Fifty individuals are from inhumations and eight are from cremations. The human remains are fragmentary, and represent individuals of varying ages, sexes, and preservation. No known individuals were identified. No associated funerary objects are present. The human remains date to sometime during the Hohokam cultural sequence (A.D. 1-1450).

In 1986, human remains representing, at minimum, five individuals, were removed from site AZ T:12:137(ASM)/AZ T:12:16(PGM)/Las Canopas in Maricopa County, AZ, by personnel from PGM. The human remains have been in the collections of PGM since they were excavated. The human remains are all cremated, and belong to five individuals of indeterminate sex ranging in age from infant to adult. No known individuals were identified. The 13 associated funerary objects include one lot sherds; one lot daub; four lots plain and red-on-buff sherds; one palette; one partial jar; two stones; two lots shell including jewelry; and one lot sherds.

AZ T:12:137(ASM)/AZ T:12:16(PGM)/Las Canopas was a large village located on the south side of the Salt River, along Canal Seven, and was occupied throughout most of the Hohokam cultural sequence (A.D. 1-1450).

At an unknown time, human remains, representing, at minimum, one individual were removed from an unknown location, likely in AZ. In 1962, the human remains were transferred to PGM by a Mrs. Leuba, whose address was in Phoenix. The human remains have been in the collections of PGM since they were received. The human remains represent an inhumation, and belong to a young adult male. No known individual was identified. The two associated funerary objects are one Salt red jar and one sherd. The human remains date to sometime during the Hohokam cultural sequence (A.D. 1-1450).

On May 17, 1976, human remains representing, at minimum, one individual were removed from within the boundaries of AZ T:12:24(PGM)/AZ T:12:412(ASM)/Casa Chica in Maricopa County, AZ. They were found during construction at the Holsum Bakery. It is unclear whether PGM personnel conducted the removal. The human remains have been in the collections of PGM since being received in 1976. The human remains represent an inhumation belonging to an adult who is possibly female. No known individual was identified. The two associated funerary objects include one Salt plain partial jar and one lot stone.

AZ T:12:24(PGM)/AZ T:12:412(ASM)/Casa Chica was a village located on the north side of the Salt River, and was occupied during the Hohokam cultural sequence (A.D. 1-1450).

Around 1962, human remains representing, at minimum, one individual were removed from within the boundaries of AZ U:9:1(ASM)/Pueblo Grande in Maricopa County, AZ. They were found by construction crew while digging a sewer line trench at 44th Street and Van Buren Street. The individual was transferred to PGM in October 1962. The human remains have been in the collections of PGM since they were received. The human remains represent an inhumation, and belong to an individual of indeterminate sex between the ages of late adolescence and adulthood. No known individual was identified. The one associated funerary object is a Gila plain ware jar.

At an unknown time, human remains representing, at minimum, one individual were removed from an unknown location, likely in AZ, by a private citizen, Bob Householder. In 1972, Householder transferred the human remains to PGM. The only extant collecting information indicates that the human remains were recovered from a “deep shaft.” Research on the donor showed that he lived in Tucson and Phoenix from 1948 until at least 1984. His address at the time of transfer was in Phoenix, AZ, and his local phone number was listed on the donation record. The human remains represent the fragmentary inhumation of an adult of indeterminate sex. No known individual was identified. No associated funerary objects are present. The human remains date to sometime during the Hohokam cultural sequence (A.D. 1-1450).

At an unknown time, human remains representing, at minimum, one individual were removed from the vicinity of site AZ U:9:270(ASM) in Maricopa County, AZ. In 1995, they were found in the collections of PGM with a note stating “44th Street and University.” There is no other extent collecting information. The human remains represent an inhumation of an adult female. No known individual was identified. No associated funerary objects are present. The human remains date to sometime during the Hohokam cultural sequence (A.D. 1-1450).

In June 1936, human remains representing, at minimum, two individuals were removed from just south of the platform mound at AZ U:9:1(ASM)/Pueblo Grande, in Maricopa County, AZ. The catalog card also states that an axe and a polychrome vessel were present with these remains, but they have not been located. The human remains were documented at PGM in 1965 and have been in the collections since that time. The human remains represent an inhumation of an adult who is probably female and a juvenile between the ages of 12-14 of indeterminate sex. No known individuals were identified. No associated funerary objects are present.

In 1983, human remains representing, at minimum, two individuals, were removed from site of AZ U:9:1(ASM)/Pueblo Grande in Maricopa County, AZ. These excavations were conducted near the Cross-Cut Canal by personnel from PGM. The human remains have been in the collections of PGM since they were excavated. The human remains represent a cremation and an inhumation of two adult individuals, one of whom is possibly male. No known individuals were identified. The 29 associated funerary objects include six lots lithics; 11 lots ceramic sherds red-on-buff and plain ware; seven lots environmental samples; three lots faunal bone; and two lots shell.

In 1973, human remains representing, at minimum, six individuals were removed from AZ U:9:1(ASM)/Pueblo Grande in Maricopa County, AZ. These excavations were conducted near the Cross-Cut Canal. The human remains have been in the collections of PGM since they were excavated. The human remains represent two inhumations and four cremations, and the individuals vary in age and sex. No known individuals were identified. The 53 associated funerary objects include one lot charcoal; seven partial vessels; one painted faunal bone; one lot ocher; one Wingfield jar; one shell; 17 lots plain, red, buff ware, and polychrome sherds; four lots faunal bone; five bowls; one Gila red ware jar; four lots lithics; five environmental samples; one clay impression; one projectile point; one disk; one lot shell beads; and one modeled spindle whorl.

At an unknown date, likely between 1929 and 1958, human remains representing, at minimum, one individual were removed from site AZ U:1:1(PGM) in Maricopa County, AZ. The nature of these excavations is unknown. The human remains were documented in the collections of PGM in 1965, and have been in the collections of PGM since they were documented. The human remains represent the inhumation of a young adult who is male. No known individual was identified. The one associated funerary object is a soil sample. The human remains date to sometime during the Hohokam cultural sequence (A.D. 1-1450).

In 1958, human remains representing, at minimum, one individual were removed from site AZ U:1:2(PGM)/AZ U:1:159(ASM) in Maricopa County, AZ. The human remains were found eroding out of a wash, and were removed by a private citizen, who transferred the human remains to PGM. The human remains have been in the collections of PGM since they were received. The human remains represent the inhumation of an adult male. No known individual was identified. The one associated funerary object is a faunal bone. The human remains date to sometime during the Hohokam cultural sequence (A.D. 1-1450).

At an unknown date, prior to 1965, human remains representing, at minimum, one individual were removed from Maricopa County, AZ. These human remains were found by a private citizen in a site assigned number AZ T:12:20(PGM) by PGM personnel. This site is close to site AZ T:12:3(ASM)/Las Moradas. The human remains were received by PGM on February 22, 1964, and have been in the collections of PGM since their receipt. The human remains represent the cremation of a young child of indeterminate sex. No known individual was identified. The one associated funerary object is a plain ware bowl. The human remains date to sometime during the Hohokam cultural sequence (A.D. 1-1450).

At an unknown date, human remains representing, at minimum, one individual were removed from a grave found at a golf course in Ray, Pinal County, AZ. The human remains were transferred to PGM around 1965, by a Mrs. Dell Verrier. A note with the human remains stated “Indian tooth.” The human remains have been in the collections of PGM since they were received. The human remains are the isolated tooth of an individual. No known individual was identified. No associated funerary objects are present. The human remains date to sometime during the Hohokam cultural sequence (A.D. 1-1450).

In the mid-1900s, human remains representing, at minimum, one individual were removed from the Ryan Cattle Ranch to the east of Fort McDowell, along the Verde River in Maricopa County, AZ. On October 5, 1966, these human remains and associated funerary objects were transferred to PGM by a Mrs. W.A. Ryan. The human remains have been in the collections of PGM since they were received. The human remains represent the cremation of an individual of indeterminate sex who is between the ages of late adolescence and adulthood. No known individual was identified. The four associated funerary objects include one Wingfield plain bowl; one lot red-on-buff and plain ware sherds; one lot shell; and one lot faunal bone. The human remains date to sometime during the Hohokam cultural sequence (A.D. 1-1450).

At an unknown date, likely during the middle 1900s, human remains representing, at minimum, one individual were removed from site AZ U:9:9(PGM), which is likely the same site as AZ U:9:184(ASM)/Pueblo Moroni, in Maricopa County, AZ, by Charles Coppedge. The human remains and associated funerary objects were brought to PGM around 1964, and have been in the collections of PGM since they were received. The human remains represent the cremation of a middle-aged adult who is possibly female. No known individual was identified. The eight associated funerary objects include five lots plain ware sherds; one lot charcoal; one Gila red bowl; and one shell bracelet fragment. The human remains date to sometime during the Hohokam cultural sequence (A.D. 1-1450).

In July 1966, human remains representing, at minimum, seven individuals were removed from site AZ T:12:23(PGM) in Maricopa County, AZ. This site is in the vicinity of AZ T:12:1(ASM)/La Ciudad. The human remains were excavated by staff from PGM, and they have been at PGM since their excavation. The human remains represent seven inhumations of individuals ranging in age from perinatal/fetal to adult. No known individuals were identified. The four associated funerary objects include three lots plain ware and red-on-buff sherds; and one shell bracelet.

In 1967, human remains representing, at minimum, one individual were removed from site AZ T:12:23(PGM) in Maricopa County, AZ. The human remains were excavated by staff from St. Luke's hospital, and were transferred to PGM. The human remains have been in the collections of PGM since they were excavated. The human remains represent an inhumation of a perinatal infant or fetus of indeterminate sex. No known individual was identified. The eight associated funerary objects include seven lots ceramic sherds including Tonto polychrome, red-on-buff, plain ware; and one Wingfield plain ware plate.

In March 1957, human remains representing, at minimum, one individual were removed from site AZ T:12:21(PGM) in Maricopa County, AZ. The individual was found during activities at the Allison Steel company. Although the site was assigned by PGM personnel, whether PGM personnel conducted the excavation is unclear. The human remains and associated funerary objects were brought to PGM in 1957, and have been kept in the collections of PGM since they were received. The human remains represent the inhumation of a sub-adult of indeterminate sex. No known individual was identified. The five associated funerary objects include two lots plain ware sherds and three environmental samples. The human remains date to sometime during the Hohokam cultural sequence (A.D. 1-1450).

Around 1972, human remains representing, at minimum, one individual were identified by a water and sewer crew while digging beneath 44th Street, north of Washington Street, which is within the boundaries of AZ U:9:1(ASM)/Pueblo Grande, in Maricopa County, AZ. The human remains were transferred to PGM in April 1972, and have been in the collections of PGM since they were received. The human remains represent the inhumation of an adult who is possibly male. No known individual was identified. The five associated funerary objects include one Salt plain pitcher; one Salt red bowl; one lot plain ware sherds; one faunal bone; and one shell fragment.

In 1972, human remains representing, at minimum, two individuals, were removed from site AZ U:9:1(ASM)/Pueblo Grande in Maricopa County, AZ. These excavations occurred south of the Grand Canal. The human remains have been in the collections of PGM since they were excavated. The human remains represent the inhumation of a young adult female and a young-to-middle-aged adult of indeterminate sex. No known individuals were identified. The 11 associated funerary objects include five environmental samples; one lot ceramics; two plain ware bowls; one lot shell; one lithic; and one lot faunal bone.

At an unknown date, between 1934 and 1990, human remains representing, at minimum, one individual, were removed from within the boundaries of AZ U:9:1(ASM)/Pueblo Grande in Maricopa County, AZ. This individual was removed from the area east of the Cross-Cut Canal. The human remains were identified in the collection of the Museum in 1995. The human remains have been in the collections of PGM since they were received. The human remains represent the inhumation of an adult who is female. No known individual was identified. No associated funerary objects are present.

Between 1980 and 1994, human remains representing, at minimum, two individuals were removed by a private landowner from within the boundaries of AZ U:1:14(PGM)/AZ U:1:131(ASM)/Blue Wash Site in Maricopa County, AZ. In 1998, the human remains were transferred to PGM, and have been in the collections of PGM since they were received. The human remains represent the inhumations of two young children. No known individuals were identified. The 13 associated funerary objects include one ceramic bowl; one lot ceramics; two environmental samples, three lots stone/lithics; four lots ceramics; one lot metal; and one animal burial. The human remains date to sometime during the Hohokam cultural sequence (A.D. 1-1450).

On June 30, 1969, human remains representing, at minimum, one individual were removed from site AZ U:9:40(PGM) in Maricopa County, AZ. This site is in the vicinity of AZ U:9:46(ASM). The individual was found during construction activities by workers for Hallcrafts Homes. PGM staff conducted the excavations. The human remains have been in the collections of PGM since the excavations. The human remains are cremated, and belong to an individual of indeterminate age and sex. No known individual was identified. The five associated funerary objects include one red-on-buff jar; two lots plain ware sherds; one smudged sherd; and one sherd disk. The human remains date to sometime during the Hohokam cultural sequence (A.D. 1-1450).

In 2000, human remains representing, at minimum, three individuals were removed from site AZ T:12:37(ASM)/Casa Buena in Maricopa County, AZ. The human remains have been in the collections of PGM since they were excavated, but were originally identified as faunal remains. The human remains are isolated, and belong to three individuals of indeterminate sex. Two of the individuals are children and one is a sub-adult or adult. No known individuals were identified. No associated funerary objects are present.

AZ T:12:37(ASM)/Casa Buena was a village on the north side of the Salt River that dates at least to the Sedentary and Classic periods (A.D. 900-1450).

On August 2, 1957, human remains representing, at minimum, two individuals were removed from site T:12:1(ASM)/AZ:T:12:2(PGM)/La Ciudad in Maricopa County, AZ, by workers conducting a sewer excavation. Whether PGM personnel conducted excavations at the site is unclear. The human remains and associated funerary objects were brought to PGM in 1957, and have been in the collections of PGM since they were received. The human remains are from inhumations, and belong to a middle-aged or old adult who is possibly male, and to an individual of indeterminate age and sex. No known individuals were identified. The nine associated funerary objects include seven lots plain ware and red-on-buff sherds; one lot wood; and one plain ware jar.

On November 13, 1975, human remains representing, at minimum, one individual were found near Maryland Avenue and 20th Street in Phoenix, Maricopa County, AZ, by a citizen who reported the finding to Phoenix police. The police then brought the human remains to PGM. The human remains have been at PGM since they were received. The human remains are from an inhumation, and belong to a child 6-10 years old of indeterminate sex. No known individual was identified. The one associated funerary object is a plain ware or red ware sherd.

The human remains were discovered outside of known archeological site boundaries, but they likely date to sometime during the Hohokam cultural sequence (A.D. 1-1450).

Between 1980 and 1994, human remains representing, at minimum, one individual were removed by a private landowner from site AZ U:1:14(PGM)/AZ U:1:131(ASM)/Blue Wash Site in Maricopa County, AZ. In 2011, the human remains were transferred to PGM, and they have been in the collections of PGM since they were received. The human remains represent the inhumation of an adult female. No known individual was identified. The two associated funerary objects are faunal remains, including a possible dog inhumation.

At an unknown time, human remains representing, at minimum, 18 individuals were removed from various locations, likely in AZ. In 2016 and 2017, these individuals were found in the unprovenanced faunal collection at PGM. There is no collecting information for these individuals. The preservation of the human remains is consistent with prehistoric Native American human remains. Moreover, 93% of the individuals in the collection of PGM are from the Hohokam archeological culture. Consequently, PGM has determined that, more likely than not, these individuals are from the Hohokam archeological cultural region. The human remains are fragmentary. Ten of the individuals are from inhumations, and eight of the individuals are from cremations. The individuals are of varying ages and sexes. No known individuals were identified. No associated funerary objects are present. The human remains date to sometime during the Hohokam cultural sequence (A.D. 1-1450).

On November 12, 1965, human remains representing, at minimum, two individuals were removed from site AZ T:12:1(ASM)/AZ:T:12:2(PGM)/La Ciudad in Maricopa County, AZ. The human remains were excavated by a private citizen and reported to police. In 1965, the human remains were brought to PGM, where they have remained. The human remains represent the inhumation of two adults; one is possibly male and the other is female. No known individuals were identified. No associated funerary objects are present. The human remains date to sometime during the Hohokam cultural sequence (A.D. 1-1450).

At an unknown time, human remains representing, at minimum, one individual were likely removed from AZ. In 2008, they were transferred from the estate of Frances Horwich to PGM. The human remains have been in the collections of PGM since they were received, but they were not identified as human until 2017. The human remains represent the cremation of an adult male. No known individual was identified. The nine associated funerary objects include one palette fragment; two partial bowls; one partial jar; three lots ceramic sherds including red-on-buff; one awl fragment; and one lot lithics. The human remains date to sometime during the Hohokam cultural sequence (A.D. 1-1450).

Likely between 1920 and 1940, human remains representing, at minimum, one individual were removed from an unknown location, likely in AZ by Frank Larsen. Mr. Larsen was an active collector in the Salt and Gila River Valleys, and is associated with Frank Midvale. At an unspecified date, Matthew C. Thomas received items from the Larsen collection, and transferred some of them to the Arizona Archaeological Society (AAS). In May 2011, the AAS transferred two boxes of items from the Larsen collection to PGM. The human remains were not identified until 2018, during a review of the faunal collection. The human remains are isolated from an inhumation of an adult of indeterminate sex. No known individual was identified. No associated funerary objects are present. The human remains date to sometime during the Hohokam cultural sequence (A.D. 1-1450).

At an unknown time, human remains representing, at minimum, one individual were removed from an unknown location, likely in AZ. In 2011, the human remains were identified in the collection of PGM. Although there is no extant collecting information, the associated funerary objects are consistent with the Hohokam archeological culture. The human remains are cremated and belong to an adult male. No known individual was identified. The seven associated funerary objects include one bowl; two polishing stones; one raw shell; and three shell beads. The human remains date to sometime during the Hohokam cultural sequence (A.D. 1-1450).

The Ak-Chin Indian Community (previously listed as Ak Chin Indian Community of the Maricopa (Ak Chin) Indian Reservation, Arizona); Gila River Indian Community of the Gila River Indian Reservation, Arizona; Salt River Pima-Maricopa Indian Community of the Salt River Reservation, Arizona; and the Tohono O'Odham Nation of Arizona comprise one cultural group known as the O'Odham. Cultural continuity between the prehistoric Hohokam archeological culture and present-day O'Odham peoples is supported by continuities in settlement pattern, architectural technologies, basketry, textiles, ceramic technology, and ritual practices. Oral traditions that are documented for the Ak-Chin Indian Community (previously listed as Ak Chin Indian Community of the Maricopa (Ak Chin) Indian Reservation, Arizona); Gila River Indian Community of the Gila River Indian Reservation, Arizona; Salt River Pima-Maricopa Indian Community of the Salt River Reservation, Arizona; and the Tohono O'Odham Nation of Arizona support their cultural affiliation with Hohokam archeological sites in central and southern Arizona.

The Hopi Tribe of Arizona considers all of Arizona to be within traditional Hopi lands or within areas where Hopi clans migrated in the past. Oral traditions and material culture that are documented for the Hopi Tribe support their cultural affiliation with Hohokam sites in central and southern Arizona. Several Hopi clans and religious societies are derived from ancestors who migrated from the south, and likely identified with the Hohokam archeological culture.

Migration from portions of the Southwest to present-day Zuni are documented in the oral traditions of kivas, priesthoods, and medicine societies of the Zuni Tribe of the Zuni Reservation, New Mexico. These traditions support their affiliation with the central and southern Arizona Hohokam archeological culture. Historical linguistic analysis also suggests interaction between ancestral Zuni and Uto-Aztecan speakers during the late Hohokam period.

Determinations Made by the Pueblo Grande Museum

Officials of the Pueblo Grande Museum have determined that:

• Pursuant to 25 U.S.C. 3001(9), the human remains described in this notice represent the physical remains of 282 individuals of Native American ancestry.

• Pursuant to 25 U.S.C. 3001(3)(A), the 596 objects described in this notice are reasonably believed to have been placed with or near individual human remains at the time of death or later as part of the death rite or ceremony.

• Pursuant to 25 U.S.C. 3001(2), there is a relationship of shared group identity that can be reasonably traced between the Native American human remains and associated funerary objects and the Ak-Chin Indian Community (previously listed as the Ak Chin Indian Community of the Maricopa (Ak Chin) Indian Reservation, Arizona); Gila River Indian Community of the Gila River Indian Reservation, Arizona; Hopi Tribe of Arizona; Salt River Pima-Maricopa Indian Community of the Salt River Reservation, Arizona; Tohono O'Odham Nation of Arizona; and the Zuni Tribe of the Zuni Reservation, New Mexico (hereafter referred to as “The Tribes”).

Additional Requestors and Disposition

Lineal descendants or representatives of any Indian Tribe or Native Hawaiian organization not identified in this notice that wish to request transfer of control of these human remains and associated funerary objects should submit a written request with information in support of the request to Lindsey Vogel-Teeter, Pueblo Grande Museum, 4619 E Washington Street, Phoenix, AZ 85034, telephone (602) 534-1572, email lindsey.vogel-teeter@phoenix.gov, by June 8, 2020. After that date, if no additional requestors have come forward, transfer of control of the human remains and associated funerary objects to The Tribes may proceed.

The Pueblo Grande Museum is responsible for notifying The Tribes that this notice has been published.

Dated: March 25, 2020.
Melanie O'Brien,
Manager, National NAGPRA Program.

[FR Doc. 2020-09910 Filed 5-7-20; 8:45 am]

BILLING CODE 4312-52-P